DEPARTMENT OF COMMERCE

Foreign-Trade Zones Board

[B-39-2021]

Foreign-Trade Zone (FTZ) 27—Boston, Massachusetts; Authorization of Proposed Production Activity; Wyeth Pharmaceuticals, LLC (mRNA Bulk Drug Substance); Andover, Massachusetts

On May 13, 2021, Wyeth Pharmaceuticals, LLC (Wyeth) submitted a notification of proposed production activity to the FTZ Board for its facility within Subzone 27R, in Andover, Massachusetts.

The notification was processed in accordance with the regulations of the FTZ Board (15 CFR part 400), including notice in the Federal Register inviting public comment (86 FR 27067, May 19, 2021). On September 10, 2021, the applicant was notified of the FTZ Board's decision that no further review of the activity is warranted at this time. The production activity described in the notification was authorized, subject to the FTZ Act and the FTZ Board's regulations, including Section 400.14.

Dated: September 10, 2021.
Elizabeth Whiteman,
Acting Executive Secretary.

[FR Doc. 2021-19915 Filed 9-14-21; 8:45 am]

BILLING CODE 3510-DS-P